FEDERAL COMMUNICATIONS COMMISSION

47 CFR Part 73

[DA 03-2892; MB Docket No. 03-14; RM-10629]

Radio Broadcasting Services; Fredericksburg and Mason, TX

AGENCY: Federal Communications Commission.

ACTION: Final rule.

SUMMARY: At the request of Jayson and Janice Fritz, this document substitutes Channel 289C3 for Channel 289C2 at Mason, Texas, reallots Channel 289C3 to Fredericksburg, Texas, and modifies the outstanding construction permit (File No. BPH-19960826MS) to specify operation on Channel 289C3 at Fredericksburg. See 68 FR 5860, published February 5, 2003. The reference coordinates for the Channel 289C3 allotment at Fredericksburg, Texas, are 30-23-37 and 99-01-05. With this action, the proceeding is terminated.

DATES: Effective November 17, 2003.

FOR FURTHER INFORMATION CONTACT: Robert Hayne, Mass Media Bureau (202) 418-2177.

SUPPLEMENTARY INFORMATION: This is a synopsis of the Commission's Report and Order in MB Docket No. 03-14, adopted September 10, 2003, and released September 12, 2003. The full text of this decision is available for inspection and copying during normal business hours in the FCC's Reference Information Center at Portals II, CY-A257, 445 12th Street, SW., Washington, DC. The complete text of this decision may also be purchased from the Commission's copy contractor, Qualex International, Portals II, 445 12th Street, SW., Room CY-B402, Washington, DC 20554, telephone (202) 863-2893, facsimile (202) 863-2898, or via e-mail qualexint@aol.com.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Texas, is amended by adding Fredericksburg, Channel 289C3 and by removing Channel 289C2 at Mason.

Federal Communications Commission.
John A. Karousos,
Assistant Chief, Audio Division, Media Bureau.

[FR Doc. 03-26500 Filed 10-20-03; 8:45 am]

BILLING CODE 6712-01-P